DEPARTMENT OF AGRICULTURE

Agricultural Marketing Service

[Doc. No. AMS-TM-24-0001]

Notice of Availability of the Final Programmatic Environmental Assessment and Finding of No Significant Impact for AMS Resilient Food Systems Infrastructure Program

AGENCY: Agricultural Marketing Service, USDA.

ACTION: Notice of availability.

SUMMARY: The Agricultural Marketing Service (AMS) announces the availability of the Final Programmatic Environmental Assessment (PEA) and Finding of No Significant Impact (FONSI) for the Resilient Food Systems Infrastructure (RFSI) Program.

FOR FURTHER INFORMATION CONTACT: Lara Shockey, Natural Resource Specialist, Transportation and Marketing Program; Telephone: (304) 373-5875; Email: lara.s.shockey@usda.gov.

SUPPLEMENTARY INFORMATION:

Background

The final PEA and FONSI analyze and disclose the potential environmental impacts associated with the establishment of the Resilient Food Systems Infrastructure (RFSI) Program. The United States Department of Agriculture (USDA) Agricultural Marketing Service (AMS) has proposed to fund cooperative agreements to coordinate initiatives for non-meat and poultry food products in the middle of the supply chain. Funds will support expanded capacity for the aggregation, processing, manufacturing, storing, transporting, wholesaling, and distribution of locally and regionally produced food products, including specialty crops, dairy, grains for human consumption, aquaculture, and other food products, excluding meat and poultry.

States will make subawards to support local and regional food and farm businesses and other entities. States will also provide supply chain and market development services. Through these efforts, the RFSI program aims to enhance market access for small and mid-size producers and food businesses, contributing to a more resilient and sustainable food system.

The RFSI Program is authorized by section 1001 (b)(4) of the American Rescue Plan Act (ARPA) (Pub. L. 117-2), which funds “loans and grants and other assistance to maintain and improve food and agricultural supply chain resiliency”. Recipients of funding from this proposed program would be allowed 48 months to complete work funded by the awards.

The environmental impacts of funding projects to expand capacity for the aggregation, processing, manufacturing, storing, transporting, wholesaling, and distribution of locally and regionally produced, non-meat and poultry food products and provide supply chain and market development services have been considered in a manner consistent with the provisions of the National Environmental Policy Act (NEPA) of 1969, Public Law 91-190, 42 U.S.C. 4321-4347, as amended.

A final PEA and FONSI have been prepared, and based on this analysis, AMS has determined there will not be a significant impact to the human environment. As a result, an Environmental Impact Statement (EIS) has not been initiated (40 CFR 1501.6). AMS intends for this PEA to create efficiencies by establishing a framework that can be used for “tiering,” where appropriate, to project-specific actions that require additional analysis. As decisions on specific applications are made, to the extent additional NEPA analysis is required, environmental review will be conducted to supplement the analysis set forth in this PEA.

The final PEA and FONSI are available for review online at the program website: https://www.ams.usda.gov/services/grants/rfsi.

Comments

AMS published a Draft PEA for public comment on February 12, 2024. The public comment period ended on March 13, 2024. No comments were received during the public comment period.

Melissa Bailey,
Associate Administrator, Agricultural Marketing Service.

[FR Doc. 2024-08971 Filed 4-25-24; 8:45 am]

BILLING CODE 3410-02-P